INTERNATIONAL TRADE COMMISSION

[Investigation No. 731-TA-894 (Preliminary)]

Certain Ammonium Nitrate From Ukraine

Determination

On the basis of the record ¹ developed in the subject investigation, the United States International Trade Commission determines, pursuant to section 733(a) of the Tariff Act of 1930 (19 U.S.C. 1673b(a)), that there is a reasonable indication that an industry in the United States is materially injured ² by reason of imports from Ukraine of certain ammonium nitrate ³ provided for in subheading 3102.30.00 of the Harmonized Tariff Schedule of the United States, that are alleged to be sold in the United States at less than fair value (LTFV).

¹ The record is defined in sec. 207.2(f) of the Commission's Rules of Practice and Procedure (19 CFR 207.2(f)).

² Commissioner Askey finds a reasonable indication that an industry in the United States is threatened with material injury.

³ The product covered by this investigation is solid, fertilizer grade ammonium nitrate, whether prilled, granular or in other solid form, with or without additives or coating, and with a bulk density equal to or greater than 53 pounds per cubic foot. Specifically excluded from this investigation is solid ammonium nitrate with a bulk density less than 53 pounds per cubic foot (commonly referred to as industrial or explosive grade ammonium nitrate).

Commencement of Final Phase Investigation

Pursuant to section 207.18 of the Commission's rules, the Commission also gives notice of the commencement of the final phase of its investigation. The Commission will issue a final phase notice of scheduling which will be published in the Federal Register as provided in section 207.21 of the Commission's rules upon notice from the Department of Commerce (Commerce) of an affirmative preliminary determination in the investigation under section 733(b) of the Act, or, if the preliminary determination is negative, upon notice of an affirmative final determination in that investigation under section 735(a) of the Act. Parties that filed entries of appearance in the preliminary phase of the investigation need not enter a separate appearance for the final phase of the investigation. Industrial users, and, if the merchandise under investigation is sold at the retail level, representative consumer organizations have the right to appear as parties in Commission antidumping and countervailing duty investigations. The Secretary will prepare a public service list containing the names and addresses of all persons, or their representatives, who are parties to the investigation.

Background

On October 13, 2000, a petition was filed with the Commission and the Department of Commerce by the Committee For Fair Ammonium Nitrate Trade (“COFANT”) whose members include Air Products & Chemicals, Inc., Allentown, PA; Mississippi Chemical Corp., Yazoo City, MS; El Dorado Chemical Co., Oklahoma City, OK; La Roche Industries, Inc., Atlanta, GA; and Nitram, Inc., Tampa, FL, alleging that an industry in the United States is materially injured or threatened with material injury by reason of LTFV imports of certain ammonium nitrate from Ukraine. Accordingly, effective October 13, 2000, the Commission instituted antidumping duty investigation No. 731-TA-894 (Preliminary).

Notice of the institution of the Commission's investigation and of a public conference to be held in connection therewith was given by posting copies of the notice in the Office of the Secretary, U.S. International Trade Commission, Washington, DC, and by publishing the notice in the Federal Register of October 20, 2000 (65 FR 63093). The conference was held in Washington, DC, on November 3, 2000, and all persons who requested the opportunity were permitted to appear in person or by counsel.

The Commission transmitted its determination in this investigation to the Secretary of Commerce on November 27, 2000. The views of the Commission are contained in USITC Publication 3374 (December 2000), entitled Certain Ammonium Nitrate from Ukraine: Investigation No. 731-TA-894 (Preliminary).

Issued: November 27, 2000.
By order of the Commission.
Donna R. Koehnke,
Secretary.

[FR Doc. 00-30672 Filed 11-30-00; 8:45 am]

BILLING CODE 7020-02-P